COMMITTEE FOR THE IMPLEMENTATION OF TEXTILE AGREEMENTS

Determination under the Textile and Apparel Commercial Availability Provision of the Dominican Republic-Central America-United States Free Trade Agreement (“CAFTA-DR Agreement”)

AGENCY: The Committee for the Implementation of Textile Agreements.

ACTION: Determination to add a product in unrestricted quantities to Annex 3.25 of the CAFTA-DR Agreement.

DATES: Effective Date: February 15, 2013.

SUMMARY: The Committee for the Implementation of Textile Agreements (“CITA”) has determined that certain three-layered composite fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

For Further Information On-Line: http://web.ita.doc.gov/tacgi/CaftaReqTrack.nsf under “Approved Requests,” Reference number: 173.2013.01.16.Fabric.ST&RforVFCorp.

SUPPLEMENTARY INFORMATION:

Authority: The CAFTA-DR Agreement; Section 203(o)(4) of the Dominican Republic-Central America-United States Free Trade Agreement Implementation Act (“CAFTA-DR Implementation Act”), Pub. Law 109-53; the Statement of Administrative Action, accompanying the CAFTA-DR Implementation Act; and Presidential Proclamations 7987 (February 28, 2006) and 7996 (March 31, 2006).

Background: The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On January 16, 2013, the Chairman of CITA received a request for a Commercial Availability determination (“Request”) from Sandler, Travis & Rosenberg, P.A. on behalf of VF Corp. for certain three-layered composite fabric, as specified below. On January 18, 2013, in accordance with CITA's procedures, CITA notified interested parties of the Request, which was posted on the dedicated Web site for CAFTA-DR Commercial Availability proceedings. In its notification, CITA advised that any Response with an Offer to Supply (“Response”) must be submitted by January 31, 2013, and any Rebuttal Comments to a Response must be submitted by February 6, 2013, in accordance with sections 6 and 7 of CITA's procedures. No interested entity submitted a Response to the Request advising CITA of its objection to the Request and its ability to supply the subject product.

In accordance with section 203(o)(4)(C) of the CAFTA-DR Implementation Act, and section 8(c)(2) of CITA's procedures, as no interested entity submitted a Response objecting to the Request and providing an offer to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings.

Specifications: Certain 3-layered Composite Fabric

Fabric type: Composite fabric consisting of a 3-layered fleece/shell construction, woven outer layer and brushed inner layer, bonded with a polyurethane (“PU”) membrane.

HTS: 6001.22.

Woven Face Fabric:

Fiber Content: 83.5% to 88.5% polyester; 13.3%-14.7% spandex.

Yarn Size (single ply, warp and filling): Textured polyester: 80.9 to 85.8 decitex/144 filament (116.5 to 123.6

Nm/144 filament) (72.8 to 77.3 denier/144 filament); Spandex: 43.1 to 45.7 decitex (218.4 to 231.8 Nm) (38.8 to 41.2 denier).

Thread Count: 44.9-49.6 warp ends per sq. cm by 35.2-41.3 filling picks per sq. cm.

Weave type: Plain weave.

Weight: 118.1 to 130.2 g/sq. m (3.5 to 3.9 oz./sq. yd).

Finish: Woven face—piece dyed and/or printed; Woven back—piece dyed.

Circular Double Knit Fleece Back Pile Fabric:

Fiber content: 100% polyester.

Yarn Size (single ply): 80.9 to 85.8 decitex (72.8 to 77.3 Denier) (116.5 to 123.6 Nm).

Weave type: circular double knit looped pile.

Weight: 157.1 to 173.2 g/sq. m (4.6 to 5.1 oz/sq. yd).

Finish: Knit face—piece dyed; Knit back—piece dyed.

Composite fabric:

Weight: 333.3 to 367.5 gm/sq. m (9.8 to 10.8 oz/sq. yd).

Width: 130 cm (51.18 inches).

Finish: Full contact bonding.

Properties:

Windproof: ASTM D737—Initial 1.0 cfm; 3x wash = 1.0 cfm.

Durable water resistant: AATCC 22—Initial >= 90 points; 10x wash >= 70 points.

High light fastness: AATCC 16 Opt 3—Class 3.0 @ 40 hours AFU.

Low Range Hydrostatic: JIS 1092—Initial 20,000 mm; 3x wash—20,000 mm. AATCC 127—Initial 20,000 mm; 3x wash 20,000 mm.

Water Vapour Permeability: JIS 1099—Initial 20,000 g/sq. m/24 hours; 3x wash 20,000 g/sq. m per 24 hours.

Water Vapour Transmission: ASTM E96 B—Initial 500 g/sq. m/24 hours; 3x wash 500 g/sq. m per 24 hours.

Remarks: Ranges above allow for a variance of up to five (5) percent for fabric weight, thread count and three (3) percent for fiber content and yarn size. NOTE: The yarn size designations describe a range of yarn specifications for yarn before knitting, dyeing and finishing of the fabric. They are intended as specifications to be followed by the mill in sourcing yarn used to produce the fabric. Dyeing, finishing and knitting can alter the characteristic of the yarn as it appears in the finished fabric. This specification therefore includes yarns appearing in the finished fabric as finer or coarser than the designated yarn sizes provided that the variation occurs after processing of the greige yarn and production of the fabric. The specifications for the fabric apply to the fabric itself prior to cutting and sewing of the finished garment. Such processing may alter the measurements.

Kim Glas,
Chairman, Committee for the Implementation of Textile Agreements.

[FR Doc. 2013-03618 Filed 2-14-13; 8:45 am]

BILLING CODE 3510-DS-P